DEPARTMENT OF HOMELAND SECURITY

Federal Emergency Management Agency

[Docket ID FEMA-2021-0002; Internal Agency Docket No. FEMA-B-2102]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 26, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2102, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Palm Beach County, Florida and Incorporated Areas
Project: 15-04-4157S Preliminary Date: December 20, 2019
City of Boca Raton | Zoning Department, 200 Northwest 2nd Avenue, Boca Raton, FL 33432.
City of Boynton Beach | City Hall, 100 East Ocean Avenue, Boynton Beach, FL 33435.
City of Delray Beach | Building Division, 100 Northwest 1st Avenue, Delray Beach, FL 33444.
City of Lake Worth Beach | Community Sustainability Department, 1900 2nd Avenue North, Lake Worth Beach, FL 33461.
City of Palm Beach Gardens | Engineering Department, 10500 North Military Trail, Palm Beach Gardens, FL 33410.
City of Riviera Beach | Development Services, 600 West Blue Heron Boulevard, Riviera Beach, FL 33404.
City of West Palm Beach | Building Division, 401 Clematis Street, West Palm Beach, FL 33401.
Town of Briny Breezes | Town Hall, 4802 North Ocean Boulevard, Briny Breezes, FL 33435.
Town of Gulf Stream | Town Hall, 100 Sea Road, Gulf Stream, FL 33483.
Town of Highland Beach | Building Department, 3616 South Ocean Boulevard, Highland Beach, FL 33487.
Town of Hypoluxo | Town Hall, 7580 South Federal Highway, Hypoluxo, FL 33462.
Town of Juno Beach | Building Department, 340 Ocean Drive, Juno Beach, FL 33408.
Town of Jupiter | Utilities Department, 210 Military Trail, Jupiter, FL 33458.
Town of Jupiter Inlet Colony | Building and Zoning Department, 50 Colony Road, Jupiter Inlet Colony, FL 33469.
Town of Lake Park | Community Development Department, 535 Park Avenue, Lake Park, FL 33403.
Town of Lantana | Building Department, 504 Greynolds Circle, Lantana, FL 33462.
Town of Manalapan | Town Hall, 600 South Ocean Boulevard, Manalapan, FL 33462.
Town of Ocean Ridge | Building Department, 6450 North Ocean Boulevard, Ocean Ridge, FL 33435.
Town of Palm Beach | Building Division, 360 South County Road, Palm Beach, FL 33480.
Town of Palm Beach Shores | Building Department, 247 Edwards Lane, Palm Beach Shores, FL 33404.
Town of South Palm Beach | Building Department, 3577 South Ocean Boulevard, South Palm Beach, FL 33480.
Unincorporated Areas of Palm Beach | Palm Beach County Planning, Zoning and Building Department, 2300 North Jog Road, West Palm Beach, FL 33411.
Village of North Palm Beach | Community Development Department, 420 US Highway 1, Suite 21, North Palm Beach, FL 33408.
Village of Tequesta | Building Department, 345 Tequesta Drive, Tequesta, FL 33469.
Wake County, North Carolina and Incorporated Areas
Project: 11-04-7660S Preliminary Date: June 19, 2020
City of Raleigh | Municipal Building, Engineering Department, 222 West Hargett Street, Raleigh, NC 27601.
Town of Apex | Engineering Department, 73 Hunter Street, Apex, NC 27502.
Town of Cary | Stormwater Services Division, 316 North Academy Street, Cary, NC 27513.
Town of Fuquay-Varina | Engineering Department, 134 North Main Street, Fuquay-Varina, NC 27526.
Town of Holly Springs | Engineering Department, 128 South Main Street, Holly Springs, NC 27540.
Town of Knightdale | Town Hall, 950 Steeple Square Court, Knightdale, NC 27545.
Town of Morrisville | Town Hall, 100 Town Hall Drive, Morrisville, NC 27560.
Town of Wake Forest | Planning Department, 301 South Brooks Street, 3rd Floor, Wake Forest, NC 27587.
Wake County Unincorporated Areas | Waverly F. Akins Building, Wake County Environmental Services Department, 337 South Salisbury Street, Raleigh, NC 27601.
Columbia County, Pennsylvania and Incorporated Areas
Project: 15-03-0227S Preliminary Date: May 31, 2019 and August 28, 2020
Borough of Benton | Borough Office, 590 Everett Street, Benton, PA 17814.
Borough of Berwick | City Hall, 1800 North Market Street, Berwick, PA 18603.
Borough of Briar Creek | Briar Creek Borough Hall, 6029 Park Road, Berwick, PA 18603.
Borough of Catawissa | Borough Hall, 307 Main Street, Catawissa, PA 17820.
Borough of Millville | Borough Office, 136 Morehead Avenue, Millville, PA 17846.
Borough of Orangeville | Borough Building, 301 Mill Street, Orangeville, PA 17859.
Borough of Stillwater | Borough Hall, 63 McHenry Street, Stillwater, PA 17878.
Town of Bloomsburg | Town Hall, 301 East 2nd Street, Bloomsburg, PA 17815.
Township of Beaver | Beaver Township Secretary, 650 Beaver Valley Road, Bloomsburg, PA 17815.
Township of Benton | Township Building, 236 Shickshinny Road, Benton, PA 17814.
Township of Briar Creek | Briar Creek Township Building, 150 Municipal Road, Berwick, PA 18603.
Township of Catawissa | Township Building, 153 Old Reading Road, Catawissa, PA 17820.
Township of Cleveland | Cleveland Township Building, 46 Jefferson Road, Elysburg, PA 17824.
Township of Conyngham | Conyngham Township Building, 209 Smith Street, Wilburton, PA 17888.
Township of Fishing Creek | Fishing Creek Township Building, 3188 State Route 487, Orangeville, PA 17859.
Township of Franklin | Franklin Township Building, 313 Mount Zion Road, Catawissa, PA 17820.
Township of Greenwood | Greenwood Township Building, 90 Shed Road, Millville, PA 17846.
Township of Hemlock | Hemlock Township Building, 26 Firehall Road, Bloomsburg, PA 17815.
Township of Jackson | Jackson Municipal Building, 862 Waller-Divide Road, Benton, PA 17814.
Township of Locust | Locust Municipal Building, 1223A Numidia Drive, Catawissa, PA 17820.
Township of Madison | Madison Township Office, 136 Morehead Avenue, Millville, PA 17846.
Township of Main | Main Township Office, 345 Church Road, Bloomsburg, PA 17815.
Township of Mifflin | Mifflin Township Building, 207 East First Street, Mifflinville, PA 18631.
Township of Montour | Montour Township Office, 195 Rupert Drive, Bloomsburg, PA 17815.
Township of Mount Pleasant | Mount Pleasant Community Center, 558 Millertown Road, Bloomsburg, PA 17815.
Township of North Centre | North Centre Township Building, 1059 State Route 93, Berwick, PA 18603.
Township of Orange | Orange Municipal Building, 2028 State Route 487, Orangeville, PA 17859.
Township of Pine | Pine Township Building, 309 Wintersteen School Road, Millville, PA 17846.
Township of Roaring Creek | Roaring Creek Township Secretary, 28 Brass School Road, Catawissa, PA 17820.
Township of Scott | Scott Municipal Building, 350 Tenny Street, Bloomsburg, PA 17815.
Township of South Centre | South Centre Municipal Building, 6260 Fourth Street, Bloomsburg, PA 17815.
Township of Sugarloaf | Sugarloaf Municipal Building, 90 Schoolhouse Road, Benton, PA 17814.
Carbon County, Wyoming and Incorporated Areas
Project: 15-08-0119S Preliminary Date: July 16, 2020
City of Rawlins | Public Works Department, 915 3rd Street, Rawlins, WY 82301.
Town of Baggs | Town Hall, 130 Penland Street, Baggs, WY 82321.
Town of Dixon | Town Hall, 301 Cottonwood Street, Dixon, WY 82323.
Town of Elk Mountain | Town Hall, 206 Bridge Street, Elk Mountain, WY 82324.
Town of Encampment | Town Hall, 614 McCaffrey Avenue, Encampment, WY 82325.
Town of Hanna | Town Hall, 301 South Adams Street, Hanna, WY 82327.
Town of Medicine Bow | Town Hall, 319 Pine Street, Medicine Bow, WY 82329.
Town of Riverside | Town Hall, 207 West Welton Street, Riverside, WY 82325.
Town of Saratoga | Town Hall, 110 East Spring Street, Saratoga, WY 82331.
Town of Sinclair | Town Hall, 300 Lincoln Avenue, Sinclair, WY 82334.
Unincorporated Areas of Carbon County | Carbon County Planning and Development Department, 215 West Buffalo Street, Suite 336, Rawlins, WY 82301.

[FR Doc. 2021-01512 Filed 1-22-21; 8:45 am]

BILLING CODE 9110-12-P